NATIONAL SCIENCE FOUNDATION

Sunshine Act Meetings

The National Science Board (NSB) hereby gives notice of the scheduling of meetings for the transaction of National Science Board business pursuant to the National Science Foundation Act and the Government in the Sunshine Act.

TIME AND DATE: Wednesday, December 3, 2024, from 8:45 a.m.-5:25 p.m. and Thursday, December 5, 2024, from 9:00 a.m.-2:25 p.m. Eastern.

PLACE: These meetings will be held at NSF headquarters, 2415 Eisenhower Avenue, Alexandria, VA 22314, and by videoconference. All open sessions of the meeting will be webcast live on the NSB YouTube channel.

December 4, 2024: https://youtube.com/live/auhWaHXqe9w?feature=share

December 5, 2024: https://youtube.com/live/3yUcMZ2hsU0?feature=share

STATUS: Parts of these meetings will be open to the public. The rest of the meetings will be closed to the public. See the full description below.

MATTERS TO BE CONSIDERED:

Wednesday, December 4, 2024

Plenary Board meeting

Open Session: 10:00 a.m.-1:05 p.m.

• NSB Chair's Opening Remarks

○ Welcome and Agenda Preview

○ NSB Swearing-in Ceremony

• NSF Director's Presentation on Multi-sector Partnerships and Investments

○ Taking stock of NSF's progress to date

• NSB External Panel—Vision for American Science and Technology/Science & Technology Action Committee

○ Panelists: France Cordova, President of the Science Philanthropy Alliance, 14th Director of the NSF

○ Monica Dus, Associate Professor in the Department of Molecular, Cellular, and Developmental Biology, University of Michigan

○ Darío Gil, NSB Chair

○ Marcia McNutt, President of the National Academy of Sciences

○ Sudip Parikh, American Association for the Advance of Science, Chief Executive Officer and Executive Publisher of Science Journals

• NSB External Panel—A New National Defense Education Act for a Changed Landscape

○ Panelists: Maria Klawe, President of Math for America

○ Tsu-Jae King Liu, Dean of the UC Berkeley College of Engineering

○ Nick Moore, Director of Governor's Office of Education and Workforce Transformation, State of Alabama

Plenary Board Meeting

Open Session: 1:50 p.m.-3:00 p.m.

• Approval of July 2024 Open Meeting Minutes

• NSB Committee Reports

○ Committee on Strategy

○ Development of NSF's 2026-2030 Strategic Plan and Learning Agenda

○ Committee on External Engagement

○ NSF 75th Anniversary Planning

○ Committee on National Science and Engineering Policy

○ Science & Engineering Indicators 2026

• NSF Director's Remarks

○ Engagement, Updates, and Senior Staff introductions

Plenary Board Meeting

Closed Session: 3:00 p.m.-4:00 p.m.

• Strategic-Level Thinking and Discussion about the NSF Budget

Thursday, December 5, 2024

Plenary Board Meeting

Open Session: 9:00 a.m.-11:10 a.m.

• NSB Chair's Welcome

• NSB External Panel—The Center for Strategic and International Studies, Institution Building as it Relates to Multi-sectoral Partnerships and Investments

○ Panelists: Erica Fuchs, Professor, Department of Engineering and Public Policy, Carnegie Mellon University

○ Navin Girishankar, President of the Economic Security and Technology Department at the CSIS

○ Andrew Reamer, Research Professor at the George Washington University, Institute for Public Policy

• Commission Reports

○ Committee on Awards & Facilities

○ Indigenous community engagement

○ Antarctic Engineering and Science Support Contract—Discussion and vote on resolution

○ NSB-NSF Commission on Merit Review

○ High-level summary of activities

Plenary Board Meeting

Closed Session: 11:10 a.m.-12:45 p.m.

• NSB Chair's Remarks and Welcome

○ Approval of closed meeting minutes July and September 2024

• NSF Director's Remarks

○ Agency Operations updates

• Committee Reports

○ NSB-NSF Commission on Merit Review

○ Presentation and discussion of final recommendations and guidance

○ Committee on Awards & Facilities

○ Annual Report of the Chief Officer for Research Facilities

○ U.S. Extremely Large Telescope report

• Vote to enter Executive Plenary Closed Session

Executive Closed Session: 1:30 p.m.-2:25 p.m.

• NSB Chair's Remarks and Welcome

○ Approval of May 2024 Executive Plenary Closed Minutes

• NSB honorary Awards—Discussion and Vote

○ 2025 Vannevar Bush and Science and Society Awards

• NSB Chair's closing remarks

Plenary Meeting Adjourns: 2:25 p.m.

Portions Open to the Public

Wednesday, December 4, 2024

10:00 a.m.-1:05 p.m. Plenary NSB

1:50 p.m..-3:00 p.m. Plenary NSB

Thursday, December 5, 2024

9:00 a.m.-11:10 a.m. Plenary NSB

Portions Closed to the Public

Wednesday, December 4, 2024

3:00 p.m.-4:00 p.m. Plenary NSB

Thursday, July 25, 2024

11:10 a.m.-12:45 p.m. Plenary NSB

1:30 p.m.-2:25 p.m. Executive Plenary closed

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from the times noticed by more than 15 minutes.

CONTACT PERSON FOR MORE INFORMATION: The NSB Office contact is Christopher Blair, cblair@nsf.gov, 703-292-7000. The NSB Public Affairs contact is Nadine Lymn, nlymn@nsf.gov, 703-292-2490. Please refer to the NSB website for additional information: https://www.nsf.gov/nsb.

Ann E. Bushmiller,
Senior Legal Counsel to the National Science Board.

[FR Doc. 2024-28291 Filed 11-27-24; 11:15 am]

BILLING CODE 7555-01-P